ENVIRONMENTAL PROTECTION AGENCY

40 CFR Part 300

[FRL-7109-4]

National Oil and Hazardous Substance Pollution Contingency Plan; National Priorities List

AGENCY: Environmental Protection Agency.

ACTION: Notice of intent to delete the Fort Devens-Sudbury Training Annex Superfund Site from the National Priorities List.

SUMMARY: The Environmental Protection Agency (EPA)—New England is issuing a notice of intent to delete the Fort Devens-Sudbury Training Annex Superfund Site (Site) located in Stow, Sudbury, Maynard, and Hudson, Massachusetts, from the National Priorities List (NPL) and requests public comments on this notice of intent. The NPL, promulgated pursuant to section 105 of the Comprehensive Environmental Response, Compensation, and Liability Act (CERCLA) of 1980, as amended, is found at appendix B of 40 CFR part 300 of the National Oil and Hazardous Substances Pollution Contingency Plan (NCP). The EPA and the Commonwealth of Massachusetts, through the Department of Environmental Protection, have determined that all appropriate response actions under CERCLA, other than operation and maintenance and five-year reviews, have been completed. However, this deletion does not preclude future actions under Superfund.

In the “Rules and Regulations” Section of today's Federal Register, we are publishing a direct final notice of deletion of the Fort Devens-Sudbury Training Annex Superfund Site without prior notice of intent to delete because we view this as a noncontroversial revision and anticipate no adverse comment(s). We have explained our reasons for this deletion in the preamble to the direct final deletion. If we receive no adverse comment(s) on this notice of intent to delete or the direct final notice of deletion, we will not take further action on this notice of intent to delete. If we receive adverse comment(s), we will withdraw the direct final notice of deletion and it will not take effect. We will, as appropriate, address all public comments in a subsequent final deletion notice based on this notice of intent to delete. We will not institute a second comment period on this notice of intent to delete. Any parties interested in commenting must do so at this time. For additional information, see the direct final notice of deletion which is located in the Rules section of this Federal Register.

DATES: Comments concerning this Site must be received by December 31, 2001.

ADDRESSES: Written comments should be addressed to: James Murphy, Community Involvement Coordinator, U.S. EPA, One Congress Street, Suite 1100, (RAA), Boston, Massachusetts 02114-2023, (617) 918-1028 or 1-800-252-3402 extension 81028—toll-free.

FOR FURTHER INFORMATION CONTACT: Christine Williams, Remedial Project Manager, U.S. EPA, One Congress Street, Suite 1100, (HBT), Boston, Massachusetts 02114-2023, (617) 918-1384 or 1-800-252-3402 extension 81384—toll-free.

SUPPLEMENTARY INFORMATION: For additional information, see the Direct Final Notice of Deletion which is located in the Rules section of this Federal Register.

Information Repository: A repository has been established to provide detailed information concerning this decision at the following address: Devens-RFTA, Devens, MA, by appointment only Monday through Friday 8 am to 3 pm, (978) 796-3835 or (978) 796-2205.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: November 15, 2001.
Robert W. Varney,
Regional Administrator, U.S. EPA New England.

[FR Doc. 01-29553 Filed 11-29-01; 8:45 am]

BILLING CODE 6560-50-P